DEPARTMENT OF DEFENSE

Department of the Army

[Docket ID: USA-2020-HQ-0014]

Privacy Act of 1974; System of Records

AGENCY: Department of the Army, Department of Defense (DoD).

ACTION: Rescindment of six System of Records notices (SORNs).

SUMMARY: The Department of the Army is rescinding six Human Resource (HR) SORNs. The notices consist of the: Individual Ready, Standby, and Retired Reserve Personnel Information System, A0600-8 AHRC; Standard Installation/Division Personnel System, A0600-8-23; Integrated Personnel and Pay System—Army Records, A0600-8a PEO EIS; Classification and Reclassification of Soldiers, A0614-200 AHRC; Officer Personnel Management Information System, A0680-31a; and Enlisted Personnel Management Information System, A0680-31b. These notices are incorporated into the Privacy Act SORN, “A0600-8-104 AHRC, Army Personnel Systems (APS).”

DATES: This System of Records rescindment is effective upon publication. These systems of records were rendered obsolete with the publication of Army Personnel Systems (APS), A0600-8-104 AHRC in the Federal Register on July 18, 2018.

FOR FURTHER INFORMATION CONTACT: Mr. Myron Wong, Department of the Army, U.S. Army Records Management and Declassification Agency, ATTENTION: Army Privacy and Civil Liberties Office, 9301 Chapek Road (Building 1458), Fort Belvoir, VA 22060-5605, or by calling 571-515-0243.

SUPPLEMENTARY INFORMATION: On July 18, 2018, the Department of the Army published a modified Privacy Act SORN titled, “A0600-8-104 AHRC, Army Personnel Systems (APS)” (84 FR 34373). The modification incorporated six HR SORNs: A0600-8 AHRC, A0600-8-23, A0600-8a PEO EIS, A0614-200 AHRC, A0680-31a, and A0680-31b.

The DoD notices for Systems of Records subject to the Privacy Act of 1974 (5 U.S.C. 552a), as amended, have been published in the Federal Register and are available from the address in FOR FURTHER INFORMATION CONTACT or at the Defense Privacy, Civil Liberties, and Transparency Division website at https://dpcld.defense.gov.

The proposed system reports, as required by the Privacy Act, as amended, were submitted on June 15, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAMES AND NUMBERS:

Individual Ready, Standby, and Retired Reserve Personnel Information System, A0600-8 AHRC.

HISTORY:

January 6, 2004, 69 FR 796. Standard Installation/Division Personnel System, A0600-8-23.

HISTORY:

May 3, 2013, 78 FR 25974. Integrated Personnel and Pay System—Army Records, A0600-8a PEO EIS.

HISTORY:

June 09, 2011, 76 FR 33728. Classification and Reclassification of Soldiers, A0614-200 AHRC.

HISTORY:

May 3, 2013, 78 FR 25974. Officer Personnel Management Information System, A0680-31a.

HISTORY:

August 18, 2004, 69 FR 51271. Enlisted Personnel Management Information System, A0680-31b.

HISTORY:

January 6, 2004, 69 FR 790.

Dated: July 10, 2020.
Aaron T. Siegel,
Alternate OSD Federal Register Liaison Officer, Department of Defense.

[FR Doc. 2020-15268 Filed 7-14-20; 8:45 am]

BILLING CODE 5001-06-P